DEPARTMENT OF TRANSPORTATION

Federal Railroad Administration

[Docket No. FRA-2021-0082]

Draft General Conformity Determination for the California High-Speed Rail System Burbank to Los Angeles Section

AGENCY: Federal Railroad Administration (FRA), Department of Transportation (DOT).

ACTION: Notice; request for comment.

SUMMARY: FRA is issuing this notice to advise the public that a draft General Conformity Determination for the Burbank to Los Angeles Section of the California High-Speed Rail (HSR) System is available for public and agency review and comment.

DATES: Comments must be received on or before October 20, 2021.

ADDRESSES: Comments related to Docket No. FRA-2021-0082 may be submitted by going to http://www.regulations.gov and following the online instructions for submitting comments.

Instructions: All submissions must include the agency name and docket number (FRA-2021-0082). All comments received will be posted without change to https://www.regulations.gov; this includes any personal information. Please see the Privacy Act Statement heading in the SUPPLEMENTARY INFORMATION section of this document for Privacy Act information related to any submitted comments or materials.

Docket: For access to the docket to read the draft General Conformity Determination, background documents, or comments received, go to https://www.regulations.gov and follow the online instructions for accessing the docket.

FOR FURTHER INFORMATION CONTACT: Andréa Martin, Senior Environmental Protection Specialist, Office of Railroad Policy and Development (RPD), telephone: (202) 493-6201, email: Andrea.Martin@dot.gov; or Marlys Osterhues, Chief Environment and Corridor Planning, RPD, telephone: (202) 493-0413, email: Marlys.Osterhues@dot.gov.

SUPPLEMENTARY INFORMATION: Privacy Act Statement: FRA will post comments it receives, without edit, to www.regulations.gov, as described in the system of records notice, DOT/ALL-14 FDMS, accessible through www.dot.gov/privacy. To facilitate comment tracking and response, we encourage commenters to provide their name, or the name of their organization; however, inclusion of names is completely optional. Whether commenters identify themselves or not, all timely comments will be fully considered. If you wish to provide comments containing proprietary or confidential information, please contact the agency for alternate submission instructions.

Background: The California High-Speed Rail Authority (CHSRA) is advancing the environmental review of the Burbank to Los Angeles Section (Project) of the California HSR System pursuant to 23 U.S.C. 327, under which it has assumed FRA's environmental review responsibilities. However, under Section 327, FRA remains responsible for making General Conformity Determinations under the Clean Air Act. This draft General Conformity Determination documents FRA's evaluation of the Burbank to Los Angeles Section, consistent with the relevant section of the Clean Air Act and its implementing regulations.

FRA's analysis of the Project's potential emissions, completed in close collaboration with CHSRA and informed by CHSRA's coordination with U.S. Environmental Protection Agency, South Coast Air Quality Management District (SCAQMD) and the California Air Resources Board, found that Project-generated emissions will either be offset for its construction phase, or will be less than zero for its operational phase; and therefore, the Action's emissions can be accommodated in the Statewide Implementation Plan (SIP) for the South Coast Air Basin. FRA concludes that the Project, as designed, will conform to the approved SIP, based on a commitment from the CHSRA that construction-phase NOX emissions will be offset consistent with the applicable federal regulations in the SCAQMD.

Next Steps

The draft General Conformity Determination for the California High-Speed Rail System, Burbank to Los Angeles Section is being issued for public review and comment for 30-days at Docket No. FRA-2021-0082. Comments related to Docket No. FRA-2021-0082 may be submitted by going to http://www.regulations.gov and following the online instructions for submitting comments. Although CHSRA is assisting FRA by disseminating notice of the availability of the draft General Conformity Determination through its usual outreach methods, CHSRA is not accepting comments on behalf of FRA. FRA cannot ensure consideration of any comment that is not submitted via http://www.regulations.gov. FRA will consider all relevant comments it receives before issuing a final General Conformity Determination.

Issued in Washington, DC.
Jamie P. Rennert,
Director, Office of Infrastructure Investment, Federal Railroad Administration.

[FR Doc. 2021-20192 Filed 9-17-21; 8:45 am]

BILLING CODE 4910-06-P